DEPARTMENT OF COMMERCE

International Trade Administration

[A-122-838, C-122-839]

Certain Softwood Lumber From Canada: Notice of Initiation of Antidumping Duty New Shipper Review for the Period May 22, 2002, Through October 31, 2002; Notice of Initiation of Countervailing Duty New Shipper Review for the Period January 1, 2002, Through December 31, 2002; and Rescission of Countervailing Duty Expedited Review

AGENCY: Import Administration, International Trade Administration, Department of Commerce.

ACTION: Notice of initiation of antidumping and countervailing duty new shipper reviews and rescission of countervailing duty expedited review in certain softwood lumber from Canada.

EFFECTIVE DATE: January 8, 2003.

SUMMARY: The Department of Commerce (the Department) has received requests to conduct new shipper reviews of the antidumping (AD) and countervailing duty (CVD) orders on certain softwood lumber from Canada. In accordance with section 751(a)(2)(B) of the Tariff Act of 1930, as amended (the Act), and 19 CFR 351.214(d) (2002), we are initiating AD and CVD new shipper reviews for Scierie La Pointe & Roy Ltée.

FOR FURTHER INFORMATION CONTACT: Vicki Schepker or Keith Nickerson (AD review) at (202) 482-1756 and (202) 482-3813, respectively; Gayle Longest or Eric B. Greynolds (CVD review) at (202) 482-3338 and (202) 482-0671, respectively; Group II, AD/CVD Enforcement, Import Administration, International Trade Administration, U.S. Department of Commerce, 14th Street and Constitution Avenue, NW., Washington, DC 20230.

Background

On November 26, 2002, the Department received timely requests from Scierie La Pointe & Roy Ltée (La Pointe & Roy), in accordance with 19 CFR 351.214(c) (2002), for new shipper reviews of the AD and CVD orders on certain softwood lumber from Canada, which have a May anniversary month.¹

¹ (See Certain Softwood Lumber Products from Canada, 67 FR 36068, 36070 (May 22, 2002).

As required by 19 CFR 351.214(b)(2)(i), (ii), and (iii)(A), La Pointe & Roy certified that it did not export certain softwood lumber to the United States during the period of investigation (POI), and that it has never been affiliated with any exporter or producer which exported certain softwood lumber during the POI.² Pursuant to 19 CFR 351.214(b)(2)(iv), the company submitted documentation establishing the date on which it first shipped the subject merchandise to the United States, the date of entry of that first shipment, the volume of that and subsequent shipments, the date of the first sale to an unaffiliated customer in the United States, and that it has informed the Governments of Canada and Quebec, through counsel, that they will be required to provide a full response to the Department's questionnaire.³

² See submission from Alston & Bird LLP to the Department, dated November 26, 2002, at Exhibits 1 and 2.

³ See Id., at Exhibits 3, 4, and 5.

In accordance with section 751(a)(2)(B) of the Act, and 19 CFR 351.214(b), and based on information on the record, we are initiating AD and CVD new shipper reviews for La Pointe & Roy.

Initiation of Reviews

On December 12, 2002, the Coalition for Fair Lumber Imports Executive Committee (the petitioners) submitted comments regarding the new shipper review requests of La Pointe & Roy. The petitioners allege that La Pointe & Roy should not be considered a new shipper because it was allocated quota under the 1996 U.S./Canada Softwood Lumber Agreement. According to the petitioners, as a holder of quota, La Pointe & Roy had a strong incentive to sell subject merchandise to the United States either directly or indirectly.⁴

⁴ See submission from Dewey Ballantine LLP to the Department, dated December 12, 2002, at 5.

Furthermore, the petitioners assert that even if La Pointe & Roy did not export subject merchandise during the POI, there is no valid reason to initiate a CVD new shipper review, since the company has requested an expedited review. According to the petitioners, La Pointe & Roy is withdrawing its request for expedited review because the company did not export subject merchandise to the United States during the POI. The petitioners argue that a company does not have to export the subject merchandise during the POI to be a part of the expedited review process and that a CVD new shipper review would have the same focus as a CVD expedited review—whether and to what extent a particular product benefitted from subsidies. Therefore, the petitioners assert that there is no reason for the Department to initiate a CVD new shipper review as the same result can be obtained through the expedited review process.

On December 19, 2002, La Pointe & Roy submitted rebuttal comments to the issues raised by the petitioners; the petitioners responded on December 24, 2002. Although on December 19, 2002, La Pointe & Roy stated that transfer of its allocated quota during the POI was done without the specific knowledge of what the ultimate use of the quota would be by the customer, on December 27, 2002, it corrected its statement to indicate that, in fact, it “was not allocated any quota by the Canadian government between April 1, 2000 and March 31, 2001,” ⁵ the POI.

⁵ See submission from Alston & Bird LLP to the Department on behalf of La Pointe & Roy, dated December 27, 2002.

In addition, on December 31, 2002, La Pointe and Roy clarified that the quota it received in 1998 and 1999 was transferred to other companies in 1998 and 1999 and was not carried over into the POI. Furthermore, the company stated that the transfers of quota described as occurring during the POI in its December 19, 2002, submission occurred prior to, not during, the POI.

After reviewing the submissions of all parties, we have determined that La Pointe & Roy's certifications that during the POI (1) it did not export to the United States and (2) it did not receive any quota which would have allowed it to export to the United States, are sufficient, for purposes of initiation. Moreover, there is no conflict with any expedited review because La Pointe & Roy is withdrawing its request for expedited review on the grounds that it did not export during the POR, as stated in their November 26, 2002, submission. In sum, we have considered La Pointe & Roy's requests and find that they meet the requirements set forth in the Department's regulations. Therefore, in accordance with section 751(a)(2)(B)(ii) of the Act and 19 CFR 351.214(d)(1), we are initiating new shipper reviews of the AD and CVD orders on certain softwood lumber from Canada. We intend to issue the preliminary results of these new shipper reviews not later than 180 days after initiation of these reviews. In addition, we are granting La Pointe & Roy's request to rescind the ongoing expedited review.

New shipper review proceeding | Period to be reviewed
Scierie La Pointe & Roy Ltée | 05/22/02— 10/31/02 (AD)
| 01/01/02— 12/31/02 (CVD)

We will instruct the Customs Service to allow, at the option of the importer, the posting, until the completion of the reviews, of a bond or security in lieu of a cash deposit for each entry of the subject merchandise from the above-listed company in accordance with 19 CFR 351.214(e). Because La Pointe & Roy certified that it both produces and exports the subject merchandise, the sale of which was the basis for these new shipper review requests, we will apply the bonding privilege only to subject merchandise for which La Pointe & Roy is both the producer and exporter. Interested parties that need access to proprietary information in these new shipper reviews should submit applications for disclosure under administrative protective orders in accordance with 19 CFR 351.305 and 351.306.

This initiation and notice are in accordance with section 751(a) of the Act (19 U.S.C. 1675(a)) and 19 CFR 351.214(d).

Dated: December 31, 2002.
Bernard T. Carreau,
Deputy Assistant Secretary, Group II, Import Administration.

[FR Doc. 03-348 Filed 1-7-03; 8:45 am]

BILLING CODE 3510-DS-P